DEPARTMENT OF HOMELAND SECURITY

Federal Emergency Management Agency

[Docket ID FEMA-2009-0001]

Agency Information Collection Activities: Proposed Collection; Comment Request, 1660-NEW; FEMA Preparedness Grants; Driver's License Security Grant Program (DLSGP)

AGENCY: Federal Emergency Management Agency, DHS.

ACTION: Notice; 60-day notice and request for comments; new information collection; OMB No. 1660-NEW; No Form.

SUMMARY: The Federal Emergency Management Agency, as part of its continuing effort to reduce paperwork and respondent burden, invites the general public and other Federal agencies to take this opportunity to comment on a proposed new information collection. In accordance with the Paperwork Reduction Act of 1995, this Notice seeks comments concerning information collection activities required to administer the Driver's License Security Grant Program (DLSGP).

DATES: Comments must be submitted on or before January 19, 2010.

ADDRESSES: To avoid duplicate submissions to the docket, please use only one of the following means to submit comments:

(1) Online. Submit comments at www.regulations.gov under docket ID FEMA-2009-0001. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Alex Mrazik, Program Analyst, Grants Program Directorate, 202-786-9732 for additional information. You may contact the Records Management Branch for copies of the proposed collection of information at facsimile number (202) 646-3347 or e-mail address: FEMA-Information-Collections@dhs.gov.

SUPPLEMENTARY INFORMATION: FEMA's Driver's License Security Grant Program (DLSGP, formerly known as REAL ID) is an important part of the Administration's larger, coordinated effort—known as the Federal Investment Strategy—to strengthen homeland security preparedness against risks associated with potential terrorist attacks. The purpose of DLSGP is to prevent terrorism, reduce fraud, and improve the reliability and accuracy of personal identification documents States and territories issue. DLSGP is authorized by section 204, Title II of the REAL ID Act of 2005, Division B of the Emergency Supplemental Appropriations Act for Defense, the Global War on Terror, and Tsunami Relief, 2005 (Pub. L. 109-13) (49 U.S.C. 30301) The program utilizes the “Minimum Standards for Driver's Licenses and Identification Cards Acceptable by Federal Agencies for Official Purposes: Final Rule,” January 29, 2008, 6 CFR part 37.

Collection of Information

Title: FEMA Preparedness Grants; Driver's License Security Grant Program (DLSGP).

Type of Information Collection: New information collection.

OMB Number: 1660-NEW.

Form Titles and Numbers: No Forms.

Abstract: The DLSGP is an important tool among a comprehensive set of measures to help strengthen the Nation against risks associated with potential terrorist attacks. FEMA uses the information to evaluate applicants' familiarity with the national preparedness architecture and identify how elements of this architecture have been incorporated into regional/state/local planning, operations, and investments. The Program Narrative and Program Management Capabilities Work Plan provide the State with a Driver's License Security Grant Program implementation roadmap and tells the Department of Homeland Security (DHS) how grant funding will be used. The Program Narrative is a separate document from the Program Management Capabilities Work Plan, both of which help to assess program implementation potential and a State's management procedures and capabilities. The Program Narrative and the Program Management Capabilities Work Plan are required upon grant application and are reviewed by FEMA and the DHS Policy Office to determine funding decisions and assists with project oversight.

Affected Public: State, Local or Tribal Government.

Estimated Total Annual Burden Hours: 168 Hours.

Table A.12—Estimated Annualized Burden Hours and Costs
Type of respondent | Form name/form number | Number of respondents | Number of responses per respondent | Avg. burden per response (in hours) | Total annual burden (in hours) | Avg. hourly wage rate | Annual number of responses | Total annual respondent cost
State, Local or Tribal Government | Program Narrative and Program Management Capabilities Work Plan | 56 | 1 | 3 | 168 | $32.20 | 56 | $5,409.60
Total |  | 56 |  |  | 168 |  | 56 | $5,409.60

Estimated Cost: There is no annual reporting or recordkeeping costs associated with this collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Larry Gray,
Director, Records Management Division, Office of Management, Federal Emergency Management Agency, Department of Homeland Security.

[FR Doc. E9-27560 Filed 11-16-09; 8:45 am]

BILLING CODE 9111-78-P